INTERNATIONAL TRADE COMMISSION

[Investigation Nos. 731-TA-308-310 and 520-521 (Fourth Review)]

Carbon Steel Butt-Weld Pipe Fittings From Brazil, China, Japan, Taiwan, and Thailand; Determinations

On the basis of the record ¹ developed in the subject five-year reviews, the United States International Trade Commission (“Commission”) determines, pursuant to the Tariff Act of 1930 (“the Act”), that revocation of the antidumping duty orders on carbon steel butt-weld pipe fittings from Brazil, China, Japan, Taiwan, and Thailand would be likely to lead to continuation or recurrence of material injury to an industry in the United States within a reasonably foreseeable time.²

¹ The record is defined in sec. 207.2(f) of the Commission's Rules of Practice and Procedure (19 CFR 207.2(f)).

² Commissioner Meredith M. Broadbent determines revocation of the antidumping duty order on carbon steel butt-weld pipe fittings from Brazil is not likely to lead to continuation or recurrence of material injury to an industry in the United States within a reasonably foreseeable time.

Background

The Commission, pursuant to section 751(c) of the Act (19 U.S.C. 1675(c)), instituted these reviews on March 1, 2016 (81 FR 10656) and determined on June 6, 2016 that it would conduct expedited reviews (81 FR 40923, June 23, 2016).

The Commission made these determinations pursuant to section 751(c) of the Act (19 U.S.C. 1675(c)). It completed and filed its determinations in these reviews on August 3, 2016. The views of the Commission are contained in USITC Publication 4628 (August 2016), entitled Carbon Steel Butt-Weld Pipe Fittings from Brazil, China, Japan, Taiwan, and Thailand: Investigation Nos. 731 TA 308-310 and 520-521 (Fourth Review).

By order of the Commission.
Issued: August 3, 2016.
Lisa R. Barton,
Secretary to the Commission.

[FR Doc. 2016-18742 Filed 8-5-16; 8:45 am]

BILLING CODE 7020-02-P